DEPARTMENT OF TRANSPORTATION

Maritime Administration

[Docket No. MARAD-2020-0054]

Request for Comments of a Previously Approved Information Collection

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on December 26, 2019.

DATES: Comments must be submitted on or before April 17, 2020.

ADDRESSES: Send comments regarding the burden estimate, including suggestions for reducing the burden, to the Office of Management and Budget, Attention: Desk Officer for the Office of the Secretary of Transportation, 725 17th Street NW, Washington, DC 20503.

FOR FURTHER INFORMATION CONTACT: Deveeda Midgette, 202-366-2354, Office of Sealift Support, Maritime Administration, Department of Transportation, 1200 New Jersey Avenue SE, W26-494, Washington, DC 20590.

SUPPLEMENTARY INFORMATION:

Title: Merchant Marine Medals and Awards.

OMB Control Number: 2133-0506.

Type of Request: Renewal of a Previously Approved Information Collection.

Background: This information collection of information provides a method of awarding merchant marine medals and decorations to masters, officers, and crew members of U.S. ships in recognition of their service in areas of danger during the operations by the Armed Forces of the United States in World War II, Korea, Vietnam, and Operation Desert Storm and Operations Restore Hope and United Shield.

Respondents: Master, officers and crew members of U.S. ships.

Affected Public: Individuals or Households.

Total Estimated Number of Responses: 550.

Frequency of Collection: Annually.

Estimated Time per Respondent: 1 hour.

Total Estimated Number of Annual Burden Hours: 550.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

* * * * *

Dated: March 12, 2020.
By Order of the Maritime Administrator.
T. Mitchell Hudson, Jr.,
Secretary, Maritime Administration.

[FR Doc. 2020-05531 Filed 3-17-20; 8:45 am]

BILLING CODE 4910-81-P